SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below.

(OMB)

Office of Management and Budget.

Attn: Desk Officer for SSA.

Fax: 202-395-6974.

E-mail address: OIRA_Submission@omb.eop.gov.

(SSA)

Social Security Administration, DCBFM,

Attn: Reports Clearance Officer, 1332 Annex Building, 6401 Security Blvd., Baltimore, MD 21235.

Fax: 410-965-6400.

E-mail address: OPLM.RCO@ssa.gov.

I. The information collection below is pending at SSA. SSA will submit it to OMB within 60 days from the date of this notice. To be sure we consider your comments, we must receive them no later than June 29, 2009. Individuals can obtain copies of the collection instrument by calling the SSA Reports Clearance Officer at 410-965-3758 or by writing to the e-mail address we list above.

1. Integrated Registration Services (IRES) System—20 CFR 401.45—0960-0626

The IRES System verifies the identity of individuals, businesses, organizations, entities, and government agencies to use SSA's eService Internet and telephone applications for requesting and exchanging business data with SSA. The requestor provides information, prescribed by SSA, to establish his or her identity. Once SSA verifies identity, IRES will issue the requestor a user identification number (User ID) and a password to conduct business with SSA. Respondents are employers and third party submitters of wage data, business entities providing taxpayer identification information, and data exchange partners conducting business in support of SSA programs.

Type of Request: Revision of an OMB-approved information collection.

Respondent types | Number of respondents | Frequency of response | Average burden per response (minutes) | Estimated annual burden hours
Appointed Representatives Registering via Internet | 200,000 | 1 | 5 | 16,667
All Other Business Services Online (BSO) Respondents Registering via Internet | 1,300,000 | 1 | 5 | 108,333
Appointed Representatives Registering via Telephone | 88,000 | 1 | 11 | 16,133
All Other BSO Respondents Registering via Telephone | 120,794 | 1 | 11 | 22,146
Total | 1,708,794 |  |  | 163,279

2. Request for Internet Services—Password Authentication—20 CFR 401.45—0960-0632

SSA has a password infrastructure and process for verifying the identity of individuals who choose to use the Internet and the automated telephone response system to conduct personal business with SSA in an electronic environment. To obtain a password from SSA's Individual Password Services, we ask an individual for certain information, prescribed by SSA. SSA uses the information to authenticate an individual prior to issuing a temporary password. Once SSA authenticates an individual, and the individual creates a permanent password, he or she may use SSA's password protected services, e.g., account status, change of address, direct deposit elections, or changes. The respondents are individuals electing to do personal business with SSA through an electronic medium.

Type of Request: Extension of an OMB-approved information collection.

Automated systems | Number of respondents | Frequency of response | Average burden per response (minutes) | Estimated annual burden hours
Internet Requestors | 3,092,069 | 1 | 10 | 515,345
Telephone Requestors | 122,266 | 1 | 10 | 20,378
Totals | 3,214,335 |  |  | 535,723

3. Social Security Number Verification Services—20 CFR 401.45—0960-0660

Internal Revenue Service regulations obligate employers to provide wage and tax data to SSA using Form W-2 or its electronic equivalent. As part of this process the employer must furnish the employee's name and Social Security number (SSN). The employee's name and SSN must match SSA's records for SSA to post earnings to the employee's earnings record, which SSA maintains. SSA offers several cost-free methods for employers to verify employee information. The cost-free methods include:

(1) Internet-based service, known as the Social Security Number Verification Service (SSNVS)—employers can verify if the reported names and SSNs of their employees match SSA's records;

(2) The Employee Verification Service (EVS)—employers verify, via paper and telephone, whether the reported names and SSNs of their employees match SSA's records;

(3) SSA's National 800 Number—an automated telephone employee verification service (TNEV) that allows callers with an SSA-authorized PIN and password to verify employees' names and SSNs through TNEV.

Type of Request: Revision of an OMB-approved information collection.

Verification system | Number of respondents | Frequency of response | Number of responses | Average burden per response (minutes) | Total annual burden (hours)
EVS | 15,000 | 2 | 30,000 | 10 | 5,000
EVS One-Time Registration | 50 | 1 | 50 | 2 | 2
SSNVS | 200,000 | 60 | 12,000,000 | 5 | 1,000,000
TNEV | 35,000 | 16 | 560,000 | 9 | 84,000
Totals | 250,050 |  | 12,590,050 |  | 1,089,002

II. SSA has submitted the information collections we list below to OMB for clearance. Your comments on the information collections would be most useful if OMB and SSA receive them within 30 days from the date of this publication. To be sure we consider your comments, we must receive them no later than May 28, 2009. You can obtain a copy of the OMB clearance packages by calling the SSA Reports Clearance Officer at 410-965-3758 or by writing to the above e-mail address.

1. Medical or Psychological Review of Childhood Disability Evaluation Form (SSA-538)—20 CFR 416.1040, 416.1043, 416.1045, 416.924(g)—0960-0675

SSA's regional review components use Form SSA-536 to facilitate the contract medical or psychological consultant's review of the Childhood Disability Evaluation Form (SSA-538). The SSA-536 records the reviewing consultant's assessment of the adjudicating component's evaluation. SSA requires the consultant to complete an SSA-536 for each Title XVI childhood disability case he or she reviews. The respondents are consultants who review the adjudicating component's completed Childhood Disability Evaluation Form (SSA-538).

Type of Request: Revision of an OMB-approved information collection.

Number of Respondents: 256.

Frequency of Response: 66.

Average Burden per Response: 12 minutes.

Estimated Annual Burden: 3,379 hours.

2. Identifying Information for Possible Direct Payment of Authorized Fees—0960-0730

SSA uses Form SSA-1695 to collect information from appointed representatives to process and facilitate direct payment of authorized fees to a financial institution. SSA will use this information to issue a Form 1099-MISC, if applicable. The respondents are attorneys and other individuals who represent claimants for benefits before SSA.

Type of Request: Revision of an OMB-approved information collection.

Number of Respondents: 10,000.

Frequency of Response: 40.

Average Burden per Response: 10 minutes.

Estimated Annual Burden: 66,667 hours.

Note: This is a correction notice. SSA published this information collection as an extension on February 25, 2009 at 74 FR 8607. Since we are revising the Privacy Act Statement, this is now a revision of an OMB-approved information collection.

Dated: April 22, 2009.
John Biles,
Reports Clearance Officer, Center for Reports Clearance, Social Security Administration.

[FR Doc. E9-9593 Filed 4-27-09; 8:45 am]

BILLING CODE 4191-02-P